SECURITIES AND EXCHANGE COMMISSION

[File No. 500-1]

China Ritar Power Corp., Order of Suspension of Trading

October 4, 2013.

It appears to the Securities and Exchange Commission that there is a lack of current and accurate information concerning the securities of China Ritar Power Corp. because China Ritar Power Corp. has not filed any periodic reports for any reporting period subsequent to the period ended September 30, 2010.

The Commission is of the opinion that the public interest and the protection of investors require a suspension of trading in securities of China Ritar Power Corp.

Therefore, it is ordered, pursuant to Section 12(k) of the Securities Exchange Act of 1934, that trading in the securities of China Ritar Power Corp. is suspended for the period from 9:30 a.m. EDT, October 4, 2013, through 11:59 p.m. EDT, on October 17, 2013.

By the Commission.
Jill M. Peterson,
Assistant Secretary.

Editorial Note: This document was received by the Office of the Federal Register on October 17, 2013.

[FR Doc. 2013-24605 Filed 10-21-13; 8:45 am]

BILLING CODE 8011-01-P